DEPARTMENT OF ENERGY

Federal Energy Regulatory Commission

[Docket No. EL11-41-000]

California Independent System Operator Corporation; Notice of Institution of Section 206 Proceeding and Refund Effective Date

On May 19, 2011, the Commission issued an order that instituted an investigation in Docket No. EL11-41-000, pursuant to section 206 of the Federal Power Act (FPA), 16 U.S.C. 824e, to evaluate the justness and reasonableness of section 10.3.6.3 of the California Independent System Operator Corporation's tariff. Cal. Indep. Operator Corp., 135 FERC ¶ 61,159 (2011).

The refund effective date in Docket No. EL11-41-000, established pursuant to section 206(b) of the FPA, will be the date of publication of this notice in the Federal Register.

Dated: May 19, 2011.
Kimberly D. Bose,
Secretary.

[FR Doc. 2011-12890 Filed 5-24-11; 8:45 am]

BILLING CODE 6717-01-P